DEPARTMENT OF COMMERCE

National Oceanic and Atmospheric Administration

RIN 0648-XF497

Mid-Atlantic Fishery Management Council (MAFMC); Public Meeting

AGENCY: National Marine Fisheries Service (NMFS), National Oceanic and Atmospheric Administration (NOAA), Commerce.

ACTION: Notice of scoping meetings, request for comments.

SUMMARY: The Mid-Atlantic Fishery Management Council's Surfclam and Ocean Quahog Committee will hold four public meetings related to the Excessive Shares Amendment.

DATES: Written comments will be accepted until July 21, 2017. Four scoping meetings will be held during this comment period. For dates, times, and locations, see SUPPLEMENTARY INFORMATION.

ADDRESSES: Written comments may be sent by any of the following methods:

• Email to the following address: jmontanez@mafmc.org; Include “SCOQ Excessive Shares Amendment Scoping Comments” in the subject line.

• Mail or hand deliver to Dr. Christopher Moore, Executive Director, Mid-Atlantic Fishery Management Council, 800 North State Street, Suite 201, Dover, Delaware 19901. Mark outside of the envelope “SCOQ Excessive Shares Amendment Scoping Comments.”

• FAX to (302) 674-5399; Include “SCOQ Excessive Shares Amendment Scoping Comments” in the subject line.

• A Web form for submitting comments is available on the Council's Web site: http://www.mafmc.org/comments/scoq-excessive-shares-amendment-scoping. The scoping guide will be posted to the Council's Web site by June 19, 2017. The scoping guide may be obtained from the Council office at the previously provided address, or by request to the Council by phone (302) 674-2331, or via the Internet at http://www.mafmc.org.

• Comments may also be provided verbally at any of the four scoping meetings. See SUPPLEMENTARY INFORMATION for dates, times, and locations.

Council address: Mid-Atlantic Fishery Management Council, 800 N. State Street, Suite 201, Dover, DE 19901; telephone: (302) 674-2331 or on their Web site at http://www.mafmc.org.

FOR FURTHER INFORMATION CONTACT: Dr. Christopher Moore, Executive Director, Mid-Atlantic Fishery Management Council, telephone: (302) 526-5255.

SUPPLEMENTARY INFORMATION: The Mid-Atlantic Fishery Management Council is developing this Amendment to the Surfclam and Ocean Quahog (SCOQ) Fishery Management Plan (FMP; called Excessive Shares Amendment) to (1) implement measures that specifically define what constitutes an excessive share in the SCOQ Individual Fishing Quota (ITQ) program, (2) review and if necessary revise goals and objectives in the FMP. During the scoping comment period, which will include scoping meetings, the public may provide comments on the range of issues and information that should be considered, including comments related to the excessive shares issue in the SCOQ ITQ fisheries and goals and objectives of the FMP, as well as any other issues that might be of concern regarding to the management of the SCOQ ITQ fishery. Additional information and background documents about the amendment can be found at: http://www.mafmc.org/actions/scoq-excessive-shares-amendment.

Scoping Meetings

The dates and locations of the scoping meetings are as follows:

• Monday, July 10, 2017, 6:30 p.m., Hilton Garden Inn Providence Airport, 1 Thurber Street, Warwick, RI 02886, telephone: (401) 734-9600.

• Tuesday, July 11, 2017, 6:30 p.m., Internet Webinar, Connection information to be available at http://www.mafmc.org. This meeting will be conducted via webinar accessible via the internet from the Council's Web site, http://www.mafmc.org. Members of the public may also attend in-person at the Council office address (see ADDRESSES) for this webinar meeting, if they contact the Council by July 7, 2017.

• Wednesday, July 12, 2017, 6:30 p.m., The Grand Hotel, 1045 Beach Avenue, Cape May, NJ 08204, telephone: (609) 884-5611.

• Monday, July 17, 2017, 6 p.m., Ocean Pines Branch Library, 1107 Cathell Road, Berlin, MD 21811, telephone: (410) 208-4014.

Special Accommodations

These meetings are physically accessible to people with disabilities. Requests for sign language interpretation or other auxiliary aid should be directed to M. Jan Saunders, (302) 526-5251, at least 5 days prior to the meeting date.

Dated: June 20, 2017.
Tracey L. Thompson,
Acting Deputy Director, Office of Sustainable Fisheries, National Marine Fisheries Service.

[FR Doc. 2017-13152 Filed 6-22-17; 8:45 am]

BILLING CODE 3510-22-P